OFFICE OF MANAGEMENT AND BUDGET

Draft 2015 Report to Congress on the Benefits and Costs of Federal Regulations and Unfunded Mandates on State, Local, and Tribal Entities

AGENCY: Office of Management and Budget, Executive Office of the President.

ACTION: Notice of availability and request for comments.

SUMMARY: The Office of Management and Budget (OMB) requests comments on its Draft 2015 Report to Congress on the Benefits and Costs of Federal Regulations, available at: http://www.whitehouse.gov/omb/inforeg_regpol_reports_congress/. The Draft Report is divided into three chapters. Chapter I examines the benefits and costs of major Federal regulations issued in fiscal year 2014 and summarizes the benefits and costs of major regulations issued between October 2004 and September 2014. It also discusses regulatory impacts on State, local, and tribal governments, small business, wages, and economic growth. Chapter II offers recommendations for regulatory reform. Chapter III summarizes agency compliance with the Unfunded Mandates Reform Act.

OMB requests that comments be submitted electronically to OMB by December 21, 2015 through www.regulations.gov.

DATES: To ensure consideration of comments as OMB prepares this Draft Report for submission to Congress, comments must be in writing and received by December 21, 2015.

ADDRESSES: Submit comments by one of the following methods:

• www.regulations.gov: Direct comments to Docket ID OMB-2014-0002.

• Fax: (202) 395-5806.

• Mail: Office of Information and Regulatory Affairs, Office of Management and Budget, Attn: Mabel Echols, NEOB, Room 10102, 725 17th Street NW., Washington, DC 20503. To ensure that your comments are received, we recommend that comments on this draft report be electronically submitted.

All comments and recommendations submitted in response to this notice will be made available to the public, including by posting them on OMB's Web site. For this reason, please do not include in your comments information of a confidential nature, such as sensitive personal information or proprietary information. The www.regulations.gov Web site is an “anonymous access” system, which means OMB will not know your identity or contact information unless you provide it in the body of your comment. For further information, contact: Office of Information and Regulatory Affairs, Office of Management and Budget, NEOB, Room 10102, 725 17th Street NW., Washington, DC 20503. Telephone: (202) 395-5897.

SUPPLEMENTARY INFORMATION: Congress directed the Office of Management and Budget (OMB) to prepare an annual Report to Congress on the Costs and Benefits of Federal Regulations. Specifically, Section 624 of the FY 2001 Treasury and General Government Appropriations Act, also known as the “Regulatory Right-to-Know Act,” (the Act) requires OMB to submit a report on the costs and benefits of Federal regulations together with recommendations for reform. The Act states that the report should contain estimates of the costs and benefits of regulations in the aggregate, by agency and agency program, and by major rule, as well as an analysis of impacts of Federal regulation on State, local, and tribal governments, small businesses, wages, and economic growth. The Act also states that the report should be subject to notice and comment and peer review.

Howard Shelanski,
Administrator, Office of Information and Regulatory Affairs.

[FR Doc. 2015-27163 Filed 10-23-15; 8:45 am]

BILLING CODE 3110-01-P